NATIONAL CAPITAL PLANNING COMMISSION

Proposed Agency Information Collection Activities, Comment Request

AGENCY: National Capital Planning Commission.

ACTION: Proposed agency information collection activities, comment request.

SUMMARY: In accordance with the Paperwork Reduction Act of 1995 (PRA or Act) and its implementing regulations, the National Capital Planning Commission (NCPC or Commission) announces an opportunity for a thirty (30) day public comment on a proposed Generic Clearance for the Collection of Qualitative Date for Planning Initiatives undertaken by the NCPC. A copy of the draft supporting statement is available at www.ncpc.gov. Following review and disposition of public comments, NCPC will submit this generic information request to the Office of Management and Budget (OMB) for review and approval, and additional public comment will be solicited. Comments submitted in response to this notice will be summarized and/or included in the request for OMB approval. Written comments will be available for public review at www.ncpc.gov.

DATES: Submit comments on or before August 31, 2015.

ADDRESSES: You may submit comments on the proposed rule by either of the methods listed below.

1. U.S. mail, courier, or hand delivery: NCPC Desk Officer, Office of Management and Budget, New Executive Office Building, Washington, DC 20503.

2. Electronically: OIRA_Submission@obm.eop.gov.

FOR FURTHER INFORMATION CONTACT: Director, Office of Public Engagement, National Capital Planning Commission, 401 9th Street NW., Suite 500, Washington, DC 20004; info@ncpc.gov, (202) 482-7200.

SUPPLEMENTARY INFORMATION: Under the PRA (44 U.S.C. 3501-3520), Federal Agencies must obtain approval from the Office of Management and Budget (OMB) for collection of information they conduct or sponsor. Collection of information is defined in 44 U.S.C. 3502(3) and 5 CFR 1320.3(c) and includes Agency requests or requirements that members of the public submit reports, keep records or provide information to a third party. Section 3507(b) of the PRA requires Federal Agencies to provide the public with at least 30 days to provide comments to OMB concerning each proposed collection of information. To comply with this requirement, NCPC is publishing notice of the proposed collection of information set forth in this document.

With respect to the following collection of information, NCPC invites comments on these topics: (1) Whether the proposed collection of information is necessary for the proper performance of NCPC's functions, including whether the information will have practical utility; (2) the accuracy of NCPC's estimate of the burden of the proposed collection of information, including the validity of the methodology and assumptions used; (3) ways to enhance the quality, utility, and clarity of the information to be collected; and (4) ways to minimize the burden of the collection of information on respondents, including through the use of automated collection techniques, when appropriate, and other forms of information technology.

Below is a summary of the collection activities the NCPC will submit for clearance by OMB as required under the PRA.

NCPC is the federal government's central planning agency for the National Capital Region. Pursuant to the National Capital Planning Act (40 U.S.C., 8701 et seq.) NCPC prepares a comprehensive plan for the National Capital Region; reviews federal and some District of Columbia proposed developments, projects and plans; reviews District zoning amendments; prepares an annual Federal Capital Improvements Program and reviews the District Capital Improvements Program. To fulfill the mission established in the National Capital Planning Act, NCPC needs to conduct additional planning studies to inform the activities noted above.

Over the next three years, NCPC anticipates it will complete an update to elements of the “Comprehensive Plan for the National Capital,” including a new urban design element; update the parks and open space element and conduct a study of parks in Washington, DC; advance an initiative for Pennsylvania Avenue; conduct regional climate adaptation and infrastructure studies; prepare one or more viewshed studies; study trail proposals; prepare commemoration studies and plans; and develop area-specific plans for federal precincts in the Monumental Core, including the SW Ecodistrict and NW Rectangle.

Other new initiatives may be proposed during the next three years. While NCPC establishes a multi-year strategic plan and a yearly work program anticipating major initiatives, the agency's work is often shaped by external factors, including new Administration directives and the planning and development decisions of other federal agencies and local governments in the region.

To fulfill the agency mission and consistent with best planning practices, NCPC's planning initiatives are predicated on receiving public input at all development stages. Public input is voluntary. The affected public may include individuals, agencies, and organizations within the National Capital Region, as well as national and even international audiences. Agency staff may receive requests from the Commission to solicit public input on specific topic areas identified as a planning process unfolds. NCPC's plans affect federal and non-federal properties, regional residents and workers, federal and local government agencies, visitors, development interests, businesses, and civic and interest-based organizations.

Based on prior experience and current practice, each initiative collects qualitative, voluntary public feedback to inform NCPC in their planning initiatives. While the specific information requested from the public cannot be determined at this time, the general nature of the collection and collection tools used are described below. NCPC will provide more refined individual estimates of burden in subsequent notices to OMB.

To offer the public the broadest possible opportunity to comment, NCPC may ask the same questions in different formats: On line, in writing, and verbally at public meetings and focus groups. The purpose of collecting public input is to inform and shape NCPC's planning work at the earliest opportunity. Early in a planning study, public feedback is used to shape the direction and scope of the study, including possible vision and goals, study alternatives, and anticipated issues. At later stages, NCPC has often completed technical studies, and identified and developed options and alternatives for policies, physical development plans, or programs. Public input helps the agency evaluate the accuracy and usefulness of studies, and conveys preferences and responses to alternatives. Towards the end of a planning study, NCPC has typically developed early drafts of plans and policies and is seeking more detailed public comments, often on a preferred plan idea or approach. Public input is often organized around major plan/policy topics and key decisions. Public input helps the agency evaluate the full range of possible impacts and understand the preferences of the public prior to acting on a proposed policy or plan.

Information collected will be used by agency staff as they develop policy and development plans. For some initiatives, steering committees comprised of representatives from federal agencies provide advisory guidance on agency policy and development plans. These committees review and consider public input prior to providing guidance. The Commission reviews informal public input, sometimes provided in summary form, as well as formally-submitted public comments as part of their deliberations and actions on draft and final agency plans.

NCPC estimates the burden of this collection of information as follows:

Table 1—Estimated Three Year Reporting Burden
[Footnote]
| Number of events | Average number of respondents/event | Number of responses | Hours/ response | Total hours
Focus Groups | 119 | 15 | 1,785 | 1.5 | 2,677.5
Public Meetings | 57 | 50 | 2,850 | 1 | 2,850
Online comment | 27 | 300 | 8,100 | 0.5 | 4,050
Questionnaire | 15 | 100 | 1,500 | 0.25 | 375
Ideas Competition | 5 | 400 | 2,000 | .5 | 1,000
Design Charrette | 3 | 100 | 300 | 1.5 | 450
Total | 226 | 965 | 15,235 |  | 11,402.5
Footnote: There are no capital costs or operating and maintenance costs associated with this collection.

The number of respondents to be included in each new event may vary, depending on the nature of the material and the target audience. Table 1 provides examples of the types of collection tools that may be administered and estimated burden levels during the three year period. Time to read, view or listen to the subject material is built into the estimated “Total Hours.”

Authority: 44 U.S.C. 3501-3520.

Dated: July 23, 2015.
Anne R. Schuyler,
General Counsel.

[FR Doc. 2015-18638 Filed 7-29-15; 8:45 am]

BILLING CODE 7520-01-P